DEPARTMENT OF HOMELAND SECURITY

U.S. Customs and Border Protection

DEPARTMENT OF THE TREASURY

19 CFR Part 133

Trademarks, Trade Names, and Copyrights

CFR Correction

In Title 19 of the Code of Federal Regulations, Parts 0 to 140, revised as of April 1, 2013, on page 882, the general authority to part 133 is correctly revised to read “Authority: 15 U.S.C. 1124, 1125, 1127; 17 U.S.C. 101, 601, 602, 603; 19 U.S.C. 66, 1202, 1499, 1526, 1624; 31 U.S.C. 9701;”

[FR Doc. 2014-05804 Filed 3-13-14; 8:45 am]

BILLING CODE 1505-01-D